DEPARTMENT OF ENERGY

Federal Energy Regulatory Commission

[Docket Nos. PR07-12-000; PR07-12-001]

Enterprise Texas Pipeline LLC; Notice of Shortened Comment Period

August 20, 2007.

Take notice that on August 17, 2007, Enterprise Texas Pipeline LLC filed an Offer of Settlement in the above-docketed proceeding. Included in its filing was a request to shorten the period for filing initial and reply comments in response to the Offer of Settlement.

The interveners have withdrawn their protests, therefore, there are no active participants other than Commission Staff in this docket and the Commission Staff supports the Offer of Settlement, we are shortening the date for filing initial comments to and including August 23, 2007. Reply comments should be filed on or before August 27, 2007.

Kimberly D. Bose,
Secretary.

[FR Doc. E7-16744 Filed 8-23-07; 8:45 am]

BILLING CODE 6717-01-P